DEPARTMENT OF COMMERCE

National Oceanic and Atmospheric Administration

[RTID 0648-XB436]

Pacific Fishery Management Council; Public Meeting

AGENCY: National Marine Fisheries Service (NMFS), National Oceanic and Atmospheric Administration (NOAA), Commerce.

ACTION: Notice of public meeting.

SUMMARY: The Pacific Fishery Management Council's (Pacific Council) Highly Migratory Species Management Team (HMSMT) is holding a meeting, which is open to the public.

DATES: The online meeting will be held on Tuesday, October 12, 2021, beginning at 1 p.m. (Pacific Daylight Time) until business is completed and continues Wednesday, October 13, 2021, beginning at 9 a.m. (Pacific Daylight Time) and concluding when business is completed.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Kit Dahl, Staff Officer, Pacific Council; telephone: (503) 820-2422.

SUPPLEMENTARY INFORMATION: The purpose of the meeting is for the HMSMT to discuss the contents of reports it would submit to the Pacific Council on topics included on the November 2021 Pacific Council meeting and future Pacific Council meetings. Potential topics include, but are not limited to, a range of alternatives for hard caps for the California large mesh driftnet fishery and updates to the Pacific Council's Swordfish Management and Monitoring Plan. The HMSMT may also discuss other HMS-related topics not currently scheduled on Pacific Council meeting agendas. A detailed agenda for this meeting, including topics and estimated times, will be posted to the Pacific Council website in advance of the meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: September 17, 2021.
Tracey L. Thompson,
Acting Deputy Director, Office of Sustainable Fisheries, National Marine Fisheries Service.

[FR Doc. 2021-20531 Filed 9-21-21; 8:45 am]

BILLING CODE 3510-22-P